DEPARTMENT OF THE TREASURY

Submission for OMB Review; Comment Request

October 11, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 17, 2005 to be assured of consideration.

Alcohol and Tobacco Tax and Trade Bureau (TTB)

OMB Number: 1513-0008.

Type of Review: Extension.

Title: Application and Permits to Ship Liquors and Articles of Puerto Rican Manufacture Taxpaid.

Form: TTB form 5170.7.

Description: TTB form 5170.7 is used to document the shipment of taxpaid Puerto Rican article into the U.S. The form is verified by Puerto Rican and U.S. Treasury Officials to certify that products are either taxpaid or deferred under appropriate bond.

Respondents: Business or other for-profit.

Estimated Total Burden Hours: 100 hour.

OMB Number: 1513-0024.

Type of Review: Extension.

Title: Export Warehouse Proprietor.

Form: TTB form 5220.4.

Description: Proprietors account for taxable articles on this report. TTB uses this information to ensure that Federal laws and regulations have been complied with and determined taxes have been paid.

Respondents: Business or other for-profit.

Estimated Total Burden Hours: 1,181 hour.

OMB Number: 1513-0033.

Type of Review: Extension.

Title: Manufacturer of Tobacco Products or Cigarette Papers and Tubes.

Form: TTB form 5210.5.

Description: TTB uses this information to ensure that taxes have been properly paid and the Federal laws and regulations are complied with.

Respondents: Business or other for-profit.

Estimated Total Burden Hours: 1,800 hour.

OMB Number: 1513-0037.

Type of Review: Extension.

Title: Withdrawal of Spirits, Specially Denatured Spirits or Wines for Exportation.

Form: TTB form 5100.11.

Description: TTB form 5100.11 is completed by exporters to report the withdrawal of spirits, denature spirits, and wines from internal revenue bonded premises, without payment of tax for direct exportation, transfer to a foreign trade zone, customs manufacturer's bonded warehouse or customs bonded warehouse or for use as supplies on vessels or aircraft.

Respondents: Business or other for-profit.

Estimated Total Burden Hours: 6,000 hour.

OMB Number: 1513-0040.

Type of Review: Extension.

Title: Application for Operating Permit Under 26 U.S.C. 5171(d).

Form: TTB form 5110.25.

Description: TTB form 5110.25 is completed by proprietors of Distilled Spirits Plants who engage in certain specified types of activities. TTB National Revenue Center personnel use the information on the form to identify the applicant, the location of the business and the types of activities to be conducted.

Respondents: Business or other for-profit.

Estimated Total Burden Hours: 20 hour.

OMB Number: 1513-0078.

Type of Review: Extension.

Title: Application for a Permit as a Manufacture of Tobacco Products or an Export Warehouse Proprietor, Application for an Amended Permit as a Manufacture of Tobacco Products or an Export Warehouse Proprietor; Application for Permit Under 26 U.S.C. Chapter 52, Importer of Tobacco Products and Application for an Amended Permit Under 26 U.S.C. 5712, Importer of Tobacco Products.

Form: TTB form 5200.3, 5200.16, 5230.4 and 5230.5.

Description: These forms are used by the tobacco industry members to obtain and amend permits necessary to engage in business as a manufacturer of tobacco products, importer of tobacco products or proprietor of an export warehouse.

Respondents: Business or other for-profit, State, Local or Tribal Government.

Estimated Total Burden Hours: 1,130 hour.

Clearance Officer: Frank Foote, (202) 927-9347, Alcohol and Tobacco Tax and Trade Bureau, Room 200 East, 1310 G. Street, NW., Washington, DC 20005.

OMB Reviewer: Alexander T. Hunt, (202) 395-7316, Office of Management and Budget, Room 10235, New Executive Office Building, Washington, DC 20503.

Michael A. Robinson,
Treasury PRA Clearance Officer.

[FR Doc. 05-20762 Filed 10-17-05; 8:45 am]

BILLING CODE 4810-31-P